DEPARTMENT OF JUSTICE

Notice of Lodging of Proposed Consent Decree Under the Clean Air Act

On January 25, 2018, the Department of Justice lodged a proposed Consent Decree with the United States District Court for the Northern District of Indiana in the lawsuit entitled United States and State of Indiana v. Indiana Harbor Coke Company, et al., Civil Action No. 18-cv-35.

The Complaint seeks civil penalties and injunctive relief for alleged violations of the Clean Air Act (“CAA”) and Title 326 of the Indiana Administrative Code against Indiana Harbor Coke Company, its corporate parent SunCoke Energy, Inc., and Cokenergy, LLC (collectively, the “Defendants”), the owners and/or operators of the coking facility, located in East Chicago, Indiana. The Complaint alleges violations of the CAA and Title 326 of the Indiana Administrative Code relating primarily to excess emissions of coke oven gases from leaking coke ovens and bypass vent stacks.

Under the proposed Consent Decree, Defendants would be jointly and severally liable for a $5 million civil penalty, to be split evenly between the United States and Indiana, and Cokenergy would perform a lead abatement supplemental environmental project at a cost of $250,000. The proposed Consent Decree also would require comprehensive coke oven rebuilds to address oven leaks, including potential permanent shut down of an entire battery, representing one fourth of the total number of ovens; interim and permanent reductions in the annual bypass venting permit limit; enhanced monitoring and testing requirements, including solar occultation flux testing; implementation of preventive operations and maintenance plans to minimize conditions that might cause excess emissions; root cause failure analyses for bypass venting incidents and repeated coke oven leaks; and two mitigation measures, dual operation of the spray dryer absorbers to achieve a reduction in sulfur dioxide emissions from the facility and maintenance of two quench towers to achieve a reduction in particulate matter emissions.

The publication of this notice opens a period for public comment on the Consent Decree. Comments should be addressed to the Assistant Attorney General, Environment and Natural Resources Division, and should refer to United States and State of Indiana v. Indiana Harbor Coke Company, et al., D.J. Ref. No. 90-5-2-1-08555/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $12.40 (25 cents per page reproduction cost) payable to the United States Treasury.

Randall M. Stone,
Acting Assistant Section Chief, Environmental Enforcement Section, Environment and Natural Resources Division.

[FR Doc. 2018-01942 Filed 1-31-18; 8:45 am]

BILLING CODE 4410-15-P